SECURITIES AND EXCHANGE COMMISSION

[Release Nos. IC-26867; File No. S7-11-04]

RIN 3235-AJ17

Mutual Fund Redemption Fees

AGENCY: Securities and Exchange Commission.

ACTION: Notice of OMB Approval of Collections of Information.

FOR FURTHER INFORMATION CONTACT: William C. Middlebrooks, Jr., Senior Counsel, Office of Regulatory Policy, Division of Investment Management, (202) 551-6792, at the Securities and Exchange Commission, 450 Fifth Street, NW., Washington, DC 20549-0506.

SUPPLEMENTARY INFORMATION: The Office of Management and Budget has approved the collection of information requirements described in the release entitled “Mutual Fund Redemption Fees.” ¹ This collection is titled “Rule 22c-2” (OMB Control No. 3235-0620).

¹ Investment Company Act Rel. No. 26782 (Mar. 11, 2005) [70 FR 13328 (Mar. 18, 2005)].

Dated: May 13, 2005.
J. Lynn Taylor,
Assistant Secretary.

[FR Doc. 05-9970 Filed 5-18-05; 8:45 am]

BILLING CODE 8010-01-P